DEPARTMENT OF VETERANS AFFAIRS

[OMB Control No. 2900-0778]

Agency Information Collection Activity Under OMB Review: Disability Benefits Questionnaire (Group 3)

AGENCY: Veterans Benefits Administration, Department of Veterans Affairs

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before March 16, 2020.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0778” in any correspondence.

FOR FURTHER INFORMATION CONTACT: Danny S. Green, Enterprise Records Service (005R1B), Department of Veterans Affairs, 811 Vermont Avenue NW, Washington, DC 20420, (202) 421-1354 or email danny.green2@va.gov. Please refer to “OMB Control No. 2900-0778” in any correspondence.

SUPPLEMENTARY INFORMATION:

Authority: 44 U.S.C. 3501-21.

Title: Disability Benefits Questionnaire (Group 3).

OMB Control Number: 2900-0778.

Type of Review: Reinstatement of a currently approved collection.

Abstract: VA Form 21-0960 series called Disability Benefits Questionnaire (Group 3) gathers necessary information from a claimant's treating physician regarding the results of medical examinations. VA will gather medical information related to the claimant that is necessary to adjudicate the claim for VA disability benefits. The Disability Benefit Questionnaires (Group 3) is comprised of 17 forms. Each DBQ title includes the names of the specific disability for which it gathers information. VAF 21-0960C-5, Central Nervous System and Neuromuscular Diseases Disability Benefits Questionnaire, gathers information related to the claimant's diagnosis of a central nervous system disease; VAF 21-0960C-8, Headaches (Including Migraine Headaches) Disability Benefits Questionnaire, gathers information related to the claimant's diagnosis of headaches; VAF 21-0960C-9, Multiple Sclerosis (MS) Disability Benefits Questionnaire, gathers information related to the claimant's diagnosis of multiple sclerosis; VAF 21-0960G-1, Esophageal Disorders (including GERD, Hiatal Hernia, and Other Esophageal Disorders) Disability Benefits Questionnaire, gathers information related to the claimant's diagnosis of any esophageal disorders; VAF 21-0960G-2, Gall Bladder and Pancreas Conditions Disability Benefits Questionnaire, gathers information related to the claimant's diagnosis of any gall bladder and pancreas condition; VAF 21-0960G-3, Intestinal Conditions (Other than Surgical or Infectious) Including Irritable Bowel Syndrome, Crohn's Disease, Ulcerative Colitis, and Diverticulitis Disability Benefits Questionnaire, gathers information related to the claimant's diagnosis of any intestinal conditions unrelated to surgery or infection; VAF 21-0960G-4, Infectious Intestinal Disorders (including Bacterial and Parasitic Infections) Disability Benefits Questionnaire, gathers information related to the claimant's diagnosis of any infectious intestinal condition; VAF 21-0960G-5, Hepatitis, Cirrhosis and other Liver Conditions Disability Benefits Questionnaire, gathers information related to the claimant's diagnosis of any liver condition; VAF 21-0960G-6, Peritoneal Adhesions Disability Benefits Questionnaire, gathers information related to the claimant's diagnosis of peritoneal adhesions; VAF 21-0960G-7, Stomach and Duodenum Conditions (Not Including GERD or Esophageal Disorders) Disability Benefits Questionnaire, gathers information related to the claimant's diagnosis of any stomach or duodenum conditions; VAF 21-0960G-8, Intestinal Surgery (Bowel Resection, Colostomy, Ileostomy) Disability Benefits Questionnaire, gathers information related to the claimant's diagnosis of any surgical intestinal condition; VAF 21-0960H-2, Rectum and Anus Conditions (Including Hemorrhoids) Disability Benefits Questionnaire, gathers information related to the claimant's diagnosis of any rectum or anus condition, which includes hemorrhoids; VAF 21-0960K-1, Breast Conditions and Disorders Disability Benefits Questionnaire, gathers information related to the claimant's diagnosis of a breast condition or disorder; VAF 21-0960K-2, Gynecological Conditions Disability Benefits Questionnaire, gathers information related to the claimant's diagnosis of a gynecological condition; VAF 21-0960L-2, Sleep Apnea Disability Benefits Questionnaire, gathers information related to the claimant's diagnosis of sleep apnea; VAF 21-0960M-11, Osteomyelitis Disability Benefits Questionnaire, gathers information related to the claimant's diagnosis of osteomyelitis; and VAF 21-0960N-1, Ear Conditions (Including Vestibular and Infectious) Disability Benefits Questionnaire, gathers information related to the claimant's diagnosis of an ear disease.

An agency may not conduct or sponsor, and a person is not required to respond to a collection of information unless it displays a currently valid OMB control number. The Federal Register Notice with a 60-day comment period soliciting comments on this collection of information was published at 84 FR 234 on December 5, 2019, pages 66706 and 66707.

Affected Public: Individuals or Households.

Estimated Annual Burden: 77,500 hours

Estimated Average Burden per Respondent: 19.4 minutes.

Frequency of Response: One time.

Estimated Number of Respondents: 250,000.

By direction of the Secretary.
Danny S. Green,
VA PRA Clearance Officer, Office of Quality, Privacy and Risk (OQPR), Department of Veterans Affairs.

[FR Doc. 2020-02977 Filed 2-13-20; 8:45 am]

BILLING CODE 8320-01-P